PENSION BENEFIT GUARANTY CORPORATION

29 CFR Part 4022

Benefits Payable in Terminated Single-Employer Plans; Interest Assumptions for Paying Benefits

AGENCY: Pension Benefit Guaranty Corporation.

ACTION: Final rule; correction.

SUMMARY: The Pension Benefit Guaranty Corporation published in the Federal Register of January 15, 2013, a final rule amending PBGC's regulation on Benefits Payable in Terminated Single-Employer Plans to prescribe interest assumptions under the regulation for valuation dates in February 2013. This document corrects an inadvertent error in that final rule.

DATES: Effective February 7, 2013 and applicable beginning February 1, 2013.

FOR FURTHER INFORMATION CONTACT: Catherine B. Klion (Klion.Catherine@pbgc.gov), Assistant General Counsel for Regulatory Affairs, Pension Benefit Guaranty Corporation, 1200 K Street NW., Washington, DC 20005, 202-326-4024. (TTY/TDD users may call the Federal relay service toll-free at 1-800-877-8339 and ask to be connected to 202-326-4024.)

SUPPLEMENTARY INFORMATION: PBGC published in the Federal Register of January 15, 2013 (78 FR 2881), a final rule amending PBGC's regulation on Benefits Payable in Terminated Single-Employer Plans to prescribe interest assumptions under the regulation for valuation dates in February 2013. The effective date for that rule was February 1, 2013. This document corrects the Code of Federal Regulations accordingly.

List of Subjects in 29 CFR Part 4022

Employee benefit plans, Pension insurance, Pensions, Reporting and recordkeeping requirements.

Therefore, the PBGC amends 29 CFR part 4022 as follows:

PART 4022—BENEFITS PAYABLE IN TERMINATED SINGLE-EMPLOYER PLANS

1. The authority citation for part 4022 continues to read as follows:

Authority: 29 U.S.C. 1302, 1322, 1322b, 1341(c)(3)(D), and 1344.

Appendix C to Part 4022 [Amended]

2. In the table for Appendix C to Part 4022, in the entry for Rate Set 232, under “On or after”, remove the date “2-1-12”, and add, in its place, the date “2-1-13”.

Issued in Washington, DC, on this 1st day of February 2013.
Laricke Blanchard,
Deputy Director for Policy, Pension Benefit Guaranty Corporation.

[FR Doc. 2013-02689 Filed 2-6-13; 8:45 am]

BILLING CODE 7709-01-P